DEPARTMENT OF ENERGY

Notice of FY 2019 BETO-Wide Request for Information (RFI)

AGENCY: Office of Energy Efficiency and Renewable Energy, Department of Energy (DOE).

ACTION: Request for information (RFI).

SUMMARY: The U.S. Department of Energy (DOE) invites public comment on its Request for Information (RFI) number regarding FY 2019 Office of Energy Efficiency and Renewable Energy (EERE) Bioenergy Technologies Office (BETO) research priorities, as part of its annual planning process. The purpose of this RFI is to solicit feedback from industry, academia, research laboratories, government agencies, and other stakeholders to help ensure research areas are relevant, timely, appropriate for federal government funding, and aligned with Administration priorities.

DATES: Responses to the RFI must be received by September 6, 2019.

ADDRESSES: Interested parties are to submit comments electronically to EERE_Bioenergy@ee.doe.gov. Include FY 2019 BETO-Wide RFI in the subject of the title. Responses must be attached to an email. It is recommended that attachments with file sizes exceeding 25MB be compressed (i.e., zipped) to ensure message delivery. Responses must be provided as a Microsoft Word (.docx) attachment to the email, and no more than 6 pages in length, 12 point font, 1 inch margins. Only electronic responses will be accepted. The complete RFI document is located at https://eere-exchange.energy.gov/.

FOR FURTHER INFORMATION CONTACT: Questions may be addressed to: John Cabaniss, 1000 Independence Avenue SW, Washington, DC 20585, 202-287-5531, EERE_Bioenergy@ee.doe.gov.

Further instruction can be found in the RFI document posted on EERE Exchange.

SUPPLEMENTARY INFORMATION: BETO is seeking information on the following 4 topic areas:

Topic 1: Leveraging First Generation Bioethanol Production Facilities

BETO is seeking information related to the development and integration of technologies that could increase the production of cellulosic fuels, cellulosic sugars, and chemicals from corn fiber. BETO, in coordination with DOE's Office of Fossil Energy (FE) is also seeking information about technologies to convert or activate gaseous carbon dioxide emitted from fermentation of corn-starch feedstocks, as well as other gaseous emissions from other biorefinery processes, into fuels and co-products.

Topic 2: Systems To Handle Commingled Food Waste Streams

BETO is soliciting feedback to help understand the quantity, quality, and sources of generation of food waste in America, as well as options for converting that waste into value-added fuels, chemicals, and power.

Topic 3: Bridging Industry & Government To Publish Existing High-Impact Data

BETO is seeking information regarding potential efforts to collect, and potentially pay for, existing high-quality bioenergy datasets that are underused or economically stranded in order to publish on established public databases and potentially bolster the growing bioeconomy with industrially relevant data across the supply chain.

Topic 4: Algal Biomass Feedstock Quality and Conversion Interface for Biofuels and Bioproducts

BETO is seeking information on issues related to the interface between cultivation and conversion R&D to develop biofuels and bioproducts from algal biomass.

The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on August 6, 2019.
Jonathan Male,
Director, Bioenergy Technologies Office.

[FR Doc. 2019-17317 Filed 8-12-19; 8:45 am]

BILLING CODE 6450-01-P